DEPARTMENT OF COMMERCE

International Trade Administration

(A-570-897)

Notice of Termination of Antidumping Duty Investigation: Certain Circular Welded Carbon Quality Line Pipe from the People's Republic of China

AGENCY: Import Administration, International Trade Administration, Department of Commerce.

EFFECTIVE DATE: December 17, 2004.

SUMMARY: On December 8, 2004, American Steel Pipe Division of American Cast Iron Pipe Company, IPSCO Tubulars Inc., Lone Star Steel Company, Maverick Tube Corporation, Northwest Pipe Company, and Stupp Corporation (collectively “the Petitioners”) withdrew their antidumping petition, filed on March 3, 2004, regarding certain circular welded carbon quality line pipe from the People's Republic of China (“PRC”). Based on this withdrawal, the Department of Commerce (“the Department”) is now terminating this investigation.

FOR FURTHER INFORMATION CONTACT: Brian C. Smith at 202-482-1766, AD/CVD Operations, Office 9, Import Administration, International Trade Administration, U.S. Department of Commerce, 14th Street and Constitution Avenue, NW., Washington, DC 20230.

SUPPLEMENTARY INFORMATION:

Case History

On March 3, 2004, the Department received an antidumping duty petition filed in proper form by the Petitioners for the imposition of antidumping duties on certain circular welded carbon quality line pipe from Mexico, the Republic of Korea, and the PRC. The Petitioners are domestic producers of certain circular welded carbon quality line pipe. The Department requested additional information for purposes of determining industry support. See Notice of Initiation of Antidumping Duty Investigation: Certain Circular Welded Carbon Quality Line Pipe from Mexico, the Republic of Korea, and the People's Republic of China, 69 FR 16521, 16522 (March 30, 2004) (“Initiation Notice”). The Department initiated this investigation, and notice was published in the Federal Register. See Initiation Notice, 69 FR at 16521.

On April 27, 2004, the International Trade Commission (“ITC”) issued its determination that there is a reasonable indication that an industry in the United States is materially injured or threatened with material injury by reason of imports of circular welded carbon quality line pipe from the PRC. See Certain Welded Carbon Quality Line Pipe from China, Korea, and Mexico: Investigations Nos. 731-TA-1073-1075 (Preliminary).

On October 8, 2004, the Department published in the Federal Register the notice of preliminary determination for this antidumping duty investigation. See Notice of Preliminary Determination of Sales at Less Than Fair Value: Certain Circular Welded Carbon Quality Line Pipe from the People's Republic of China, 69 FR 60353 (October 8, 2004).

Scope of the Investigation

This investigation covers circular welded carbon quality steel pipe of a kind used for oil and gas pipelines, not more that 406.4 mm (16 inches) in outside diameter, regardless of wall thickness, surface finish (black, or coated with any coatings compatible with line pipe), and regardless of end finish (plain end, beveled ends for welding, threaded ends or threaded and coupled, as well as any other special end finishes), and regardless of stenciling. Excluded from this proceeding are line pipe in nominal pipe size outer diameter of 11/4 inch and less.

The merchandise subject to this investigation is currently classifiable in the Harmonized Tariff Schedule of the United States (“HTSUS”) at heading 7306 and subheadings 7306.10.10.10, 7306.10.1013, 7306.10.1014, 7306.10.1015, 7306.10.1019, 7306.10.1050, 7306.10.1053, 7306.10.1054, 7306.10.1055, 7306.10.1059, 7306.10.5010, 7306.10.5013, 7306.10.5014, 7306.10.5015, 7306.10.5019, 7306.10.5050, 7306.10.5053, 7306.10.5054, 7306.10.5055, and 7306.10.5059. The HTSUS classifications are provided for convenience and customs purposes; however, the written description of the scope of this investigation is dispositive.

Termination of Investigation

On December 8, 2004, the Department received a letter from the Petitioners notifying the Department that they are no longer interested in seeking relief and are withdrawing their petition for certain circular welded carbon quality line pipe from the PRC. Under section 734(a)(1)(A) of the Tariff Act of 1930 (“the Act”), upon withdrawal of a petition, the administering authority may terminate an investigation after giving notice to all parties to the investigation. We have notified all parties to this investigation and the ITC of the Petitioners' withdrawal and our intention to terminate this proceeding.

Section 351.207(b)(1) of the Department's regulations states that the Department may terminate an investigation upon withdrawal of a petition provided it concludes that termination is in the public interest. Because the Petitioners are no longer interested in obtaining relief, we have determined that termination would be in the public interest. Based on information currently on the record of the above-mentioned proceeding, the Department is terminating the antidumping duty investigation on certain circular welded carbon quality line pipe from the PRC.

This action is taken pursuant to section 351.207(b)(1) of the Department's regulations.

Dated: December 13, 2004.
James J. Jochum,
Assistant Secretary for Import Administration.

[FR Doc. E4-3713 Filed 12-16-04; 8:45 am]

BILLING CODE 3510-DS-S